DEPARTMENT OF TRANSPORTATION

Federal Aviation Administration

14 CFR Part 39

[Docket No. FAA-2019-0480; Product Identifier 2019-NM-041-AD; Amendment 39-21498; AD 2021-08-04]

RIN 2120-AA64

Airworthiness Directives; The Boeing Company Airplanes

AGENCY: Federal Aviation Administration (FAA), DOT.

ACTION: Final rule.

SUMMARY: The FAA is superseding Airworthiness Directive (AD) 2013-07-09, which applied to certain The Boeing Company Model 737-700, -700C, -800, and -900ER series airplanes, Model 747-400F series airplanes, and Model 767-200 and -300 series airplanes. AD 2013-07-09 required a general visual inspection for affected serial numbers of the crew oxygen mask stowage box units, and replacement or re-identification as necessary. This AD retains the requirements of AD 2013-07-09 and expands the applicability. This AD was prompted by a determination that the affected parts may be installed on airplanes outside the original applicability of AD 2013-07-09. The FAA is issuing this AD to address the unsafe condition on these products.

DATES: This AD is effective May 26, 2021.

The Director of the Federal Register approved the incorporation by reference of certain publications listed in this AD as of May 20, 2013 (78 FR 22178, April 15, 2013).

ADDRESSES: For Boeing service information identified in this final rule, contact Boeing Commercial Airplanes, Attention: Contractual & Data Services (C&DS), 2600 Westminster Blvd., MC 110-SK57, Seal Beach, CA 90740-5600; telephone 562-797-1717; internet https://www.myboeingfleet.com. For Intertechnique service information identified in this final rule, contact Aerotechnics, 61 rue Pierre Curie BP 1, 78373 Plaisir, CEDEX, France; phone: +33 1 6486 6964; internet https://www.zodiacaerospace.com. You may view this service information at the FAA, Airworthiness Products Section, Operational Safety Branch, 2200 South 216th St., Des Moines, WA. For information on the availability of this material at the FAA, call 206-231-3195. It is also available on the internet at https://www.regulations.gov by searching for and locating Docket No. FAA-2019-0480.

Examining the AD Docket

You may examine the AD docket on the internet at https://www.regulations.gov by searching for and locating Docket No. FAA-2019-0480; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Nicole Tsang, Aerospace Engineer, Cabin Safety and Environmental Systems Section, FAA, Seattle ACO Branch, 2200 South 216th St., Des Moines, WA 98198; phone and fax: 206-231-3959; email: Nicole.S.Tsang@faa.gov.

SUPPLEMENTARY INFORMATION:

Background

The FAA issued a notice of proposed rulemaking (NPRM) to amend 14 CFR part 39 to supersede AD 2013-07-09, Amendment 39-17413 (78 FR 22178, April 15, 2013) (AD 2013-07-09). AD 2013-07-09 applied to certain The Boeing Company Model 737-700, -700C, -800, and -900ER series airplanes, Model 747-400F series airplanes, and Model 767-200 and -300 series airplanes. The NPRM published in the Federal Register on June 25, 2019 (84 FR 29818). The NPRM was prompted by reports indicating that certain crew oxygen mask stowage box units were possibly delivered with a burr in the inlet fitting. The burr might break loose during test or operation, and might pose an ignition source or cause an inlet valve to jam. The NPRM was also prompted by a determination that the affected parts may be installed on airplanes outside the original applicability of AD 2013-07-09. The NPRM proposed to continue to require a general visual inspection for affected serial numbers of the crew oxygen mask stowage box units, and replacement or re-identification as necessary. The NPRM also proposed to expand the applicability to include those other airplanes. The FAA is issuing this AD to address this possible ignition source, which could result in an oxygen-fed fire; or an inlet valve jam in a crew oxygen mask stowage box unit, which could result in restricted flow of oxygen.

The FAA issued a supplemental NPRM (SNPRM) that published in the Federal Register on November 5, 2020 (85 FR 70526). The SNPRM proposed to continue to require a general visual inspection for affected serial numbers of the crew oxygen mask stowage box units, and replacement or re-identification as necessary. The SNPRM also proposed to expand the applicability to include additional airplane models.

Comments

The FAA gave the public the opportunity to participate in developing this AD. The following presents the comments received on the SNPRM and the FAA's response to each comment.

Support for the SNPRM

The Air Line Pilots Association, International (ALPA) and Boeing expressed support for the SNPRM. Additional comments from ALPA are addressed below.

Effect of Winglets on Accomplishment of the Proposed Actions

Aviation Partners Boeing stated that the installation of blended or split scimitar winglets per Supplemental Type Certificate (STC) ST01219SE on Model 737CL airplanes (Model 737-200, -300, -400, and -500 series airplanes), and blended winglets per STC ST01518SE on Model 757 airplanes, does not affect the accomplishment of the manufacturer's service instructions.

The FAA agrees with the commenter that STC ST01219SE and STC ST01518SE do not affect the accomplishment of the manufacturer's service instructions. Therefore, the installation of STC ST01219SE or STC ST01518SE does not affect the ability to accomplish the actions required by this AD. The FAA has not changed this AD in this regard.

Request To Shorten the Compliance Time

ALPA requested that the FAA shorten the compliance time of the proposed AD from 24 months to 12 months. ALPA noted that several commenters on the NPRM requested an extended compliance time, and that it is not in favor of an extension.

The FAA disagrees with the commenter's request. ALPA did not provide justification for its request. As noted in the SNPRM, in developing an appropriate compliance time for this action, the FAA considered the safety implications, parts availability, and normal maintenance schedules for the timely accomplishment of the inspection and replacement or re-identification as necessary. Further, operators are always permitted to accomplish the requirements of an AD at a time earlier than the specified compliance time. In addition, to reduce the compliance time of the proposed AD would necessitate (under the provisions of the Administrative Procedure Act) reissuing the notice, reopening the period for public comment, considering additional comments subsequently received, and eventually issuing a final rule. That procedure could add unwarranted time to the rulemaking process. In light of this, and in consideration of the amount of time that has already elapsed since issuance of the original notice, the FAA has determined that further delay of this AD is not appropriate. The FAA has not changed this AD in this regard.

Request To Allow a Records Review Based on Certain Additional Criteria

United Parcel Service Co. (UPS) requested that the introductory text to paragraph (i) of the proposed AD be revised to allow a records review in lieu of the specified inspection, provided it can be conclusively determined that the serial number is not an affected (suspect) part (one that is identified in the Appendix of Intertechnique Service Bulletin MXP1/4-35-175, Revision 2, dated May 10, 2011). UPS noted that paragraph (i) of the proposed AD would allow a records review if the serial number of the crew oxygen mask stowage box unit could be conclusively determined. UPS noted that it has identified scenarios where the serial number may not be conclusively known, but the unit can be confirmed to not be one of the affected units. UPS explained that Boeing was not consistent in providing serial numbers for the units with delivery documents. However, UPS noted that through records showing when units were changed, as well as knowing the date of production of a given aircraft, UPS can conclusively determine that the units with the affected serial numbers were not installed on a given aircraft.

The FAA agrees with the commenter's request for the reasons provided. The FAA has revised the introductory text to paragraph (i) of this AD to clarify that a records review is also acceptable if it can be conclusively determined that the serial number is not one that is identified in the Appendix of Intertechnique Service Bulletin MXP1/4-35-175, Revision 2, dated May 10, 2011.

Request To Revise Manufacturing Date Range

United Airlines requested that paragraph (i)(1) of the proposed AD be revised to specify that units with a manufacturing date outside the range of July 2007 through November 2007 inclusive (instead of July 12, 2007, through November 20, 2007, inclusive) do not need to be replaced. United Airlines also requested that similar revisions be made to the introductory text to paragraph (i) of the proposed AD, and paragraphs (i)(2), (j)(1), and (j)(2) of the proposed AD. United Airlines stated that the manufacture date on the mask stowage box units typically shows only the month and year (in MMYYYY format). The commenter noted that determining the exact calendar date of manufacture may not be possible, and without a specific serial number, the manufacturer would not be able to narrow down the date.

The FAA partially agrees with the commenter's request. The FAA agrees that determining the exact date of manufacture may not be possible because the manufacturer date on the mask stowage box units typically shows only the month and year. The FAA has therefore revised paragraph (i)(1) of this AD to specify that units with a manufacturing date outside the range of July 2007 through November 2007 inclusive do not need to be replaced. The FAA has also revised paragraph (j)(1) of this AD to specify that units where the serial number is unreadable or undetermined, but the manufacturing date can conclusively be determined to be outside the range of July 2007 through November 2007 inclusive, may be installed on an airplane. However, the FAA has determined that the commenter's suggested revisions to the introductory text to paragraph (i) of this AD are not needed because the introductory text to paragraph (i) of this AD only requires determining the serial number and does not specify actions based on whether or not the serial number can be determined. In addition, the FAA has determined that the commenter's suggested revisions to paragraphs (i)(2) and (j)(2) of this AD are not needed because the actions in those paragraphs are only applicable for units with a known serial number that is identified in table 2 of the Appendix of Intertechnique Service Bulletin MXP1/4-35-175, Revision 2, dated May 10, 2011 (those that need re-identification).

Request To Allow Use of Aircraft Maintenance Manual (AMM)

Delta Air Lines (Delta) requested confirmation that it may use the respective fleet's AMM to perform removals and installations if any of the affected units are found on its airplanes. Delta noted that paragraph (i) of the proposed AD does not specify instructions for removal or replacement. Delta asked for confirmation that using the applicable AMM for these tasks would not require it to obtain an alternative method of compliance (AMOC).

The FAA agrees that the commenter's intended approach is acceptable for compliance with this AD and that no AMOC is needed to use the applicable AMM. The AMMs for the affected airplanes contain adequate instructions for removal and installation of the affected units. No change to this AD is necessary.

Clarification of Certain Actions

The FAA has revised paragraph (i)(1) of this AD to clarify conditions that require replacement of a crew oxygen mask stowage box unit, which includes an unreadable or undetermined serial number, except as otherwise specified.

The FAA has also revised paragraph (j)(1) of this AD to clarify conditions that prohibit the installation of a crew oxygen mask stowage box unit, which includes an unreadable or undetermined serial number, except as specified otherwise.

Conclusion

The FAA reviewed the relevant data, considered the comments received, and determined that air safety and the public interest require adopting this AD with the changes described previously, and minor editorial changes. The FAA has determined that these minor changes:

• Are consistent with the intent that was proposed in the SNPRM for addressing the unsafe condition; and

• Do not add any additional burden upon the public than was already proposed in the SNPRM.

The FAA also determined that these changes will not increase the economic burden on any operator or increase the scope of this AD.

Related Service Information Under 1 CFR Part 51

This AD requires Boeing Alert Service Bulletin 737-35A1121, Revision 1, dated November 7, 2011; Boeing Alert Service Bulletin 747-35A2126, Revision 1, dated September 29, 2011; Boeing Alert Service Bulletin 767-35A0057, Revision 1, dated November 17, 2011; and Intertechnique Service Bulletin MXP1/4-35-175, Revision 2, dated May 10, 2011; which the Director of the Federal Register approved for incorporation by reference as of May 20, 2013 (78 FR 22178, April 15, 2013). This service information is reasonably available because the interested parties have access to it through their normal course of business or by the means identified in the ADDRESSES section.

Costs of Compliance

The FAA estimates that this AD affects 3,723 airplanes of U.S. registry. The FAA estimates the following costs to comply with this AD:

Estimated Costs
Action | Labor cost | Parts cost | Cost per product | Cost on U.S. operators
Inspection (retained action from AD 2013-07-09) (40 airplanes) | 1 work-hour × $85 per hour = $85 | $0 | $85 | $3,400
Inspection (new action) (3,683 airplanes) | 1 work-hour × $85 per hour = $85 | 0 | 85 | 313,055

The FAA has received no definitive data that would enable providing cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by

a. Removing Airworthiness Directive (AD) 2013-07-09, Amendment 39-17413 (78 FR 22178, April 15, 2013); and

b. Adding the following new AD:

2021-08-04 The Boeing Company: Amendment 39-21498; Docket No. FAA-2019-0480; Product Identifier 2019-NM-041-AD.

(a) Effective Date

This airworthiness directive (AD) is effective May 26, 2021.

(b) Affected ADs

This AD replaces AD 2013-07-09, Amendment 39-17413 (78 FR 22178, April 15, 2013) (AD 2013-07-09).

(c) Applicability

This AD applies to all The Boeing Company airplanes, certificated in any category, as identified in paragraphs (c)(1) through (5) of this AD.

(1) Model 737-200, -300, -400, -500, -600, -700, -700C, -800, -900, and -900ER series airplanes.

(2) Model 737-8 and 737-9 airplanes.

(3) Model 747-200B, 747-200C, 747-200F, 747-400, 747-400D, and 747-400F series airplanes.

(4) Model 757-200, -200PF, -200CB, and -300 series airplanes.

(5) Model 767-200, -300, -300F, and -400ER series airplanes.

(d) Subject

Air Transport Association (ATA) of America Code 35, Oxygen.

(e) Unsafe Condition

This AD was prompted by reports indicating that certain crew oxygen mask stowage box units were possibly delivered with a burr in the inlet fitting. The burr might break loose during test or operation, and might pose an ignition source or cause an inlet valve to jam. This AD was also prompted by a determination that the affected parts may be installed on airplanes outside the applicability of AD 2013-07-09. The FAA is issuing this AD to address this possible ignition source, which could result in an oxygen-fed fire; or an inlet valve jam in a crew oxygen mask stowage box unit, which could result in restricted flow of oxygen.

(f) Compliance

Comply with this AD within the compliance times specified, unless already done.

(g) Retained Inspection and Corrective Action, With No Changes

This paragraph restates the requirements of paragraph (g) of AD 2013-07-09 with no changes. For The Boeing Company Model 737 airplanes as identified in Boeing Alert Service Bulletin 737-35A1121, Revision 1, dated November 7, 2011; The Boeing Company Model 747 airplanes as identified in Boeing Alert Service Bulletin 747-35A2126, Revision 1, dated September 29, 2011; and The Boeing Company Model 767 airplanes as identified in Boeing Alert Service Bulletin 767-35A0057, Revision 1, dated November 17, 2011: Within 24 months after May 20, 2013 (the effective date of AD 2013-07-09), do a general visual inspection to determine if the serial number of the crew oxygen mask stowage box unit is identified in the Appendix of Intertechnique Service Bulletin MXP1/4-35-175, Revision 2, dated May 10, 2011, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable. A review of airplane maintenance records is acceptable in lieu of this inspection if the serial number of the crew oxygen mask stowage box unit can be conclusively determined from that review.

(1) If any crew oxygen mask stowage box unit has a serial number identified in table 1 of the Appendix of Intertechnique Service Bulletin MXP1/4-35-175, Revision 2, dated May 10, 2011: Before further flight, replace the crew oxygen mask stowage box unit with a new or serviceable unit in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(2) If any crew oxygen mask stowage box unit has a serial number identified in table 2 of the Appendix of Intertechnique Service Bulletin MXP1/4-35-175, Revision 2, dated May 10, 2011: Before further flight, add the letter “I” to the end of the serial number (identified as “SER”) on the identification label, in accordance with the Accomplishment Instructions of Intertechnique Service Bulletin MXP1/4-35-175, Revision 2, dated May 10, 2011; and reinstall in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(3) If no crew oxygen mask stowage box unit has a serial number identified in the Appendix of Intertechnique Service Bulletin MXP1/4-35-175, Revision 2, dated May 10, 2011: Unless a records review was done to determine the serial number, before further flight, reinstall the crew oxygen mask stowage box unit, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(h) Retained Parts Installation Prohibition, With No Changes

This paragraph restates the requirements of paragraph (h) of AD 2013-07-09 with no changes. For airplanes identified in paragraph (g) of this AD: As of May 20, 2013 (the effective date of AD 2013-07-09), no person may install a crew oxygen mask stowage box unit with a serial number listed in the Appendix of Intertechnique Service Bulletin MXP1/4-35-175, Revision 2, dated May 10, 2011, on any airplane.

(i) New Inspection and Corrective Action

For airplanes other than those identified in paragraph (g) of this AD: Within 24 months after the effective date of this AD, do a general visual inspection to determine if the serial number of the crew oxygen mask stowage box unit is identified in the Appendix of Intertechnique Service Bulletin MXP1/4-35-175, Revision 2, dated May 10, 2011. A review of airplane maintenance records is acceptable in lieu of this inspection if the serial number of the crew oxygen mask stowage box unit can be conclusively determined from that review, or if it can be conclusively determined that the serial number is not one that is identified in the Appendix of Intertechnique Service Bulletin MXP1/4-35-175, Revision 2, dated May 10, 2011.

(1) If any crew oxygen mask stowage box unit has a serial number identified in table 1 of the Appendix of Intertechnique Service Bulletin MXP1/4-35-175, Revision 2, dated May 10, 2011, or the crew oxygen mask stowage box unit has a serial number that is unreadable or undetermined: Before further flight, replace the crew oxygen mask stowage box unit with a new or serviceable unit. If any crew oxygen mask stowage box unit's serial number is unreadable or undetermined, but the manufacturing date can conclusively be determined to be outside the range of July 2007 through November 2007 inclusive, the crew oxygen mask stowage box unit does not need to be replaced.

(2) If any crew oxygen mask stowage box unit has a serial number identified in table 2 of the Appendix of Intertechnique Service Bulletin MXP1/4-35-175, Revision 2, dated May 10, 2011: Before further flight, add the letter “I” to the end of the serial number (identified as “SER”) on the identification label, in accordance with the Accomplishment Instructions of Intertechnique Service Bulletin MXP1/4-35-175, Revision 2, dated May 10, 2011; and reinstall the crew oxygen mask stowage box unit.

(j) New Parts Installation Prohibition

(1) For airplanes other than those identified in paragraph (g) of this AD: As of the effective date of this AD, no person may install a crew oxygen mask stowage box unit with a serial number identified in table 1 of the Appendix of Intertechnique Service Bulletin MXP1/4-35-175, Revision 2, dated May 10, 2011; or any crew oxygen mask stowage box unit with a serial number that is unreadable or undetermined unless the manufacturing date can conclusively be determined by a review of the airplane maintenance records to be outside the range of July 2007 through November 2007 inclusive.

(2) For airplanes other than those identified in paragraph (g) of this AD: As of the effective date of this AD, no person may install a crew oxygen mask stowage box unit with a serial number identified in table 2 of the Appendix of Intertechnique Service Bulletin MXP1/4-35-175, Revision 2, dated May 10, 2011, on any airplane, unless that crew oxygen mask stowage box unit has been modified as required by paragraph (i)(2) of this AD.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards Office, as appropriate. If sending information directly to the manager of the certification office, send it to the attention of the person identified in paragraph (l) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by the Boeing Company Organization Designation Authorization (ODA) that has been authorized by the Manager, Seattle ACO Branch, FAA, to make those findings. To be approved, the repair method, modification deviation, or alteration deviation must meet the certification basis of the airplane, and the approval must specifically refer to this AD.

(4) AMOCs approved previously for AD 2013-07-09 are approved as AMOCs for the corresponding provisions of this AD.

(l) Related Information

For more information about this AD, contact Nicole Tsang, Aerospace Engineer, Cabin Safety and Environmental Systems Section, FAA, Seattle ACO Branch, 2200 South 216th St., Des Moines, WA 98198; phone and fax: 206-231-3959; email: Nicole.S.Tsang@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 20, 2013 (78 FR 22178, April 15, 2013).

(i) Boeing Alert Service Bulletin 737-35A1121, Revision 1, dated November 7, 2011.

(ii) Boeing Alert Service Bulletin 747-35A2126, Revision 1, dated September 29, 2011.

(iii) Boeing Alert Service Bulletin 767-35A0057, Revision 1, dated November 17, 2011.

(iv) Intertechnique Service Bulletin MXP1/4-35-175, Revision 2, dated May 10, 2011.

(4) For Boeing service information identified in this AD, contact Boeing Commercial Airplanes, Attention: Contractual & Data Services (C&DS), 2600 Westminster Blvd., MC 110-SK57, Seal Beach, CA 90740-5600; telephone 562-797-1717; internet https://www.myboeingfleet.com.

(5) For Intertechnique service information identified in this AD, contact Aerotechnics, 61 rue Pierre Curie BP 1, 78373 Plaisir, CEDEX, France; phone: +33 1 6486 6964; internet https://www.zodiacaerospace.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on March 30, 2021.
Ross Landes,
Deputy Director for Regulatory Operations, Compliance & Airworthiness Division, Aircraft Certification Service.

[FR Doc. 2021-08213 Filed 4-20-21; 8:45 am]

BILLING CODE 4910-13-P